DEPARTMENT OF VETERANS AFFAIRS

Privacy Act of 1974; System of Records

AGENCY: Department of Veterans Affairs (VA).

ACTION: Notice of amendment to system of records.

SUMMARY: The Privacy Act of 1974 (5 U.S.C. 552a(e) (4)) requires that all agencies publish in the Federal Register a notice of the existence and character of their systems of records. Notice is hereby given that the Department of Veterans Affairs (VA) is amending the system of records entitled “Blood Donor Information—VA” (04VA115) as set forth in the Federal Register, 40 FR 38095, and last amended in the Federal Register, 66 FR 20860 (Apr. 25, 2001). VA is amending the system by revising the Routine Uses of Records Maintained in the System, including Categories of Users and the Purposes of Such Uses. VA is republishing the system notice in its entirety.

DATES: Comments on the amendment of this system of records must be received no later than November 29, 2004. If no public comment is received, the amended system will become effective November 29, 2004.

ADDRESSES: Written comments concerning the proposed amended system of records may be submitted by: mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Veterans Health Administration (VHA) Privacy Act Officer, Department of Veterans Affairs, 810 Vermont Avenue, NW., Washington, DC 20420, telephone (727) 320-1839.

SUPPLEMENTARY INFORMATION: The purpose for the system of records is to maintain vital blood donor information of individuals who have donated blood to a VHA health care facility, blood bank, government or to private agencies for blood that is to be issued for patient care under routine or emergency conditions. Information such as donor name, social security number, date of donation, type of donation, type of components produced by the donation, mandated tests results, and disposition of the blood or blood component is gathered in order to track the donor medical history, donation interval(s), results of donor testing, report positive or abnormal test results, and blood or blood components from registration through the final disposition of blood or blood components produced from the donation.

A record of the individual to whom the blood or blood component was transfused and the medical facility where the product was transfused and/or stored is also maintained.

The Routine Uses of Records Maintained in the System, Including Categories of Users and the Purposes of Such Uses are amended as described below.

○ Routine use number three (3) has been amended in its entirety. VA must be able to disclose information within its possession on its own initiative that pertains to a violation of law to the appropriate authorities in order for them to investigate and enforce those laws. VA may disclose the names and home addresses of veterans and their dependents only to Federal entities with law enforcement responsibilities under 38 U.S.C. 5701(a) and (f). Accordingly, VA has so limited this routine use as follows:

VA may disclose on its own initiative any information in this system, except the names and home addresses of veterans and their dependents, which is relevant to a suspected or reasonably imminent violation of law, whether civil, criminal or regulatory in nature and whether arising by general or program statute or by regulation, rule or order issued pursuant thereto, to a Federal, State, local, tribal or foreign agency charged with the responsibility of investigating or prosecuting such violations, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

• Former routine use four (4) has been deleted from this system of records. Upon review, it has been determined that this routine use is no longer applicable to this system and, as such, is no longer required.

• Former routine uses five (5) through eight (8) have been renumbered as routine uses four (4) through seven (7).

The Privacy Act permits VA to disclose information about individuals without their consent for a routine use when the information will be used for a purpose that is compatible with the purpose for which we collected the information. In all of the routine use disclosures described above, the recipient of the information will use the information in connection with a matter relating to one of VA's programs or will use the information to provide a benefit to VA, or disclosure is required by law or would permit VA to notify appropriate entities about conduct of individuals in this system of records.

Under section 264, subtitle F of title II of the Health Insurance Portability and Accountability Act of 1996 (HIPAA), Pub. L. 104-191, 100 Stat. 1936, 2033-34 (1996), the United States Department of Health and Human Services (HHS) published a final rule, as amended, establishing Standards for Privacy of Individually-Identifiable Health Information, 45 CFR parts 160 and 164. VHA may not disclose individually-identifiable health information (as defined in HIPAA, 42 U.S.C. 1320(d)(6), and Privacy Rule, 45 CFR 164.501) pursuant to a routine use unless either: (a) the disclosure is required by law, or (b) the disclosure is also permitted or required by the HHS Privacy Rule. The disclosures of individually-identifiable health information contemplated in the routine uses published in this amended system of records notice are permitted under the Privacy Rule. However, to also have authority to make such disclosures under the Privacy Act, VA must publish these routine uses. Consequently, VA is publishing these routine uses and is adding a preliminary paragraph to the routine uses portion of the system of records notice stating that any disclosure pursuant to the routine uses in this system of records notice must be either required by law or permitted by the Privacy Rule before VHA may disclose the covered information.

The Report of Intent to Publish an Amended System of Record Notice and an advance copy of the system notice have been sent to the appropriate Congressional committees and to the Director of Office of Management and Budget (OMB) as required by 5 U.S.C. 552a(r) (Privacy Act) and guidelines issued by OMB, 61 FR 6428 (Feb. 20, 1996).

Approved: October 8, 2004.
Anthony J. Principi,
Secretary of Veterans Affairs.

04VA115

SYSTEM NAME:

Blood Donor Information—VA.

SYSTEM LOCATION:

Blood Donor records are maintained at each of the Department of Veterans Affairs (VA) health care facilities. Addresses are listed in VA Appendix I of the biennial publication of Privacy Act Issuances.

CATEGORIES OF INDIVIDUALS COVERED BY THE SYSTEM:

Individuals who have donated blood to a Veterans Health Administration (VHA) health care facility, blood bank, government or private agencies to be issued for patient care under routine or emergency conditions.

CATEGORIES OF RECORDS IN THE SYSTEM:

Blood donor records contain sufficient information (i.e., donor name, social security number, date of donation, type of donation, type of components produced by the donation, mandated tests results, and disposition of the blood or blood component) to provide a mechanism to track a donated blood product from the time of donor registration through the final disposition of each component prepared from that donation. VA maintains a record of the individual to whom the blood or blood component was transfused and the medical facility where the product was transfused and/or stored.

AUTHORITY FOR MAINTENANCE OF THE SYSTEM:

1. Title 38, United States Code, sections 501(a) and 501(b).

2. Title 21, Code of Federal Regulations, parts 200-299 and parts 600-680.

3. Title 42, Code of Federal Regulations, section 493.1107.

PURPOSE(S):

The information and records are used to track the donor medical history, donation interval(s), results of donor testing, report positive or abnormal test results, and blood and/or blood components produced from the donation.

ROUTINE USES OF RECORDS MAINTAINED IN THE SYSTEM, INCLUDING CATEGORIES OF USERS AND THE PURPOSES OF SUCH USES:

VA may disclose protected health information pursuant to the following routine uses where required by law, or required or permitted by 45 CFR parts 160 and 164.

1. Disclosure may be made to answer requests for information from Federal, State, local, and tribal medical facilities regarding the source from which blood was received. Such requests may be initiated by a qualified medical practitioner in the event that a donor's or patient's medical condition warrants it.

2. Disclosure may be made of blood availability, location, quantity on hand, and blood type for use by the area donor collection coordinators to answer and fill requests from health care facilities in need of type-specific blood.

3. VA may disclose on its own initiative any information in this system, except the names and home addresses of veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

4. Disclosure from a system of records maintained by this component may be made to a Congressional office from the record of an individual in response to an inquiry from the Congressional office made at the request of that individual.

5. A record from a system of records maintained by this component may be disclosed as a routine use to the General Services Administration for the purpose of records management inspections conducted under authority of Title 44 United States Code.

6. A record from a system of records maintained by this component may be disclosed as a routine use to the National Archives and Records Administration for the purpose of records management inspections conducted under authority of title 44 United States Code.

7. Disclosure of relevant information may be made to individuals, organizations, private or public agencies, etc., with whom VA has a contract or agreement to perform such services as VA may deem practicable for the purposes of laws administered by VA, in order for the contractor or subcontractor to perform the services of the contract or agreement.

POLICIES AND PRACTICES FOR STORING, RETRIEVING, ACCESSING, RETAINING, AND DISPOSING OF RECORDS IN THE SYSTEM:

STORAGE:

Paper documents, magnetic tape, disk.

RETRIEVABILITY:

1. All VA blood donor manual records are indexed by name and social security number of donor, cross-indexed by blood type.

2. Automated records are indexed by name, social security number, blood type, antibodies and date of last donation.

SAFEGUARDS:

1. Access to VA working space and medical record storage areas is restricted to VA employees on a “need to know” basis. Generally, VA file areas are locked after normal duty hours and are protected from outside access by the Federal Protective Service. Employee file records and file records of public figures or otherwise sensitive medical record files are stored in separate locked files. Strict control measures are enforced to ensure that disclosure is limited to a “need to know” basis.

2. Strict control measures are enforced to ensure that access to and disclosure from all records including electronic files are limited to VA employees whose official duties warrant access to those files. The system recognizes authorized employees by a series of individually-unique passwords/codes, and the employees are limited to only that information in the file, which is needed in the performance of their official duties.

RETENTION AND DISPOSAL:

Records are maintained and disposed of in accordance with the record disposition authority approved by the Archivist of the United States, National Archives and Records Administration under the National Archives Job No. N1-15-02-04.

SYSTEM MANAGER(S) AND ADDRESS:

Chief Consultant, Diagnostic Services, Strategic Healthcare Group (SHG) (115), Department of Veterans Affairs, 810 Vermont Avenue, NW., Washington, DC 20420.

NOTIFICATION PROCEDURE:

Individuals seeking information concerning the existence and/or content of a blood donor information record pertaining to themselves must submit a written request or apply in person to the VA health care facility where the donation occurred. All inquiries must reasonably identify the portion of the blood donor information record desired and the approximate date(s) that service was provided. Additionally, inquiries should include the individual's full name, social security number, and home address at the time of medical service, if known.

RECORD ACCESS PROCEDURES:

Blood donors, patients of VA medical care facilities or duly authorized representatives seeking information regarding access to or who are contesting VA health facility records may write, call or visit the VHA facility where medical service was provided or volunteered.

CONTESTING RECORD PROCEDURES:

(See Record Access Procedures above.)

RECORD SOURCE CATEGORIES:

1. The blood donor.

2. Private hospitals and local blood banks.

3. Private physicians.

4. Non-VA Laboratories.

[FR Doc. 04-24079 Filed 10-27-04; 8:45 am]

BILLING CODE 8320-01-P